DEPARTMENT OF COMMERCE

Submission for OMB Review; Comment Request

The Department of Commerce will submit to the Office of Management and Budget (OMB) for clearance the following proposal for collection of information under the provisions of the Paperwork Reduction Act.

Agency: International Trade Administration.

Title: Steel Import License.

OMB Control Number: 0625-0245.

Form Number(s): ITA-4141P.

Type of Request: Regular submission (extension of a currently approved information collection).

Number of Respondents: 3,500.

Average Hours per Response: 0.17 hour/response (10 minutes).

Burden Hours: 92,878.

Needs and Uses: In order to monitor steel imports in real-time and to provide the public with real-time data, the Department of Commerce (DOC) must collect and provide timely aggregated summaries about these imports. The Steel Import License proposed by the International Trade Administration of the DOC is the tool used to collect the necessary information. The Census Bureau currently collects import data and disseminates aggregate information about steel imports. However, the time required to collect, process, and disseminate this information through Census can take up to 70 days after importation of the product, giving interested parties and the public far less time to respond to injurious sales.

Affected Public: Business or other for-profit organizations.

Frequency: On occasion.

Respondent's Obligation: Voluntary.

This information collection request may be viewed at reginfo.gov. Follow the instructions to view Department of Commerce collections currently under review by OMB.

Written comments and recommendations for the proposed information collection should be sent within 30 days of publication of this notice to OIRA_Submission@omb.eop.gov or fax to (202) 395-5806.

Sheleen Dumas,
Departmental PRA Lead, Office of the Chief Information Officer.

[FR Doc. 2017-26089 Filed 12-1-17; 8:45 am]

BILLING CODE 3510-DS-P